DEPARTMENT OF COMMERCE

National Oceanic and Atmospheric Administration

[RTID 0648-XC048]

Mid-Atlantic Fishery Management Council (MAFMC); Public Meetings

AGENCY: National Marine Fisheries Service (NMFS), National Oceanic and Atmospheric Administration (NOAA), Commerce.

ACTION: Notice of public meetings.

SUMMARY: The Mid-Atlantic Fishery Management Council (Council) will hold public meetings of the Council including a joint session with the Atlantic States Marine Fisheries Commission's Interstate Fisheries Management Program (ISFMP) Policy Board.

DATES: The meetings will be held Tuesday, June 7 through Thursday, June 9, 2022. For agenda details, see SUPPLEMENTARY INFORMATION.

ADDRESSES:

Meeting address: The meeting will be held at the Hyatt Place Long Island/East End (431 East Main Street, Riverhead, NY 11901); telephone: (631) 208-0002.

This meeting will be conducted in a hybrid format, with options for both in-person and webinar participation. Webinar registration details will be available on the Council's website at https://www.mafmc.org/briefing/june-2022.

Council address: Mid-Atlantic Fishery Management Council, 800 N State St., Suite 201, Dover, DE 19901; telephone: (302) 674-2331; www.mafmc.org.

FOR FURTHER INFORMATION CONTACT: Christopher M. Moore, Ph.D., Executive Director, Mid-Atlantic Fishery Management Council; telephone: (302) 526-5255. The Council's website, www.mafmc.org also has details on the meeting location, proposed agenda, webinar listen-in access, and briefing materials.

SUPPLEMENTARY INFORMATION: The following items are on the agenda, although agenda items may be addressed out of order (changes will be noted on the Council's website when possible.)

Tuesday, June 7, 2022

Update on Northeast Regional Habitat Assessment Products

Aquaculture Update

Review the draft MAFMC Aquaculture Policy and Aquaculture in the Mid-Atlantic Region Background Document

Consider approval of MAFMC Aquaculture Policy

New Jersey Ocean Acidification Monitoring Newtork

(Dr. Grace Saba, Rutgers University)

2023 Atlantic Surfclam and Ocean Quahog Specifications

Review recommendations for 2023 specifications

Recommend changes to 2023 specifications if necessary

Equity and Environmental Justice Strategy Presentation

(Sharon Benjamin, NOAA Fisheries)

Summer Flounder Management Strategy Evaluation Update

(Dr. Gavin Fay, UMass Dartmouth, and Dr. Lou Carr-Harris, NEFSC)

Review of Summer Flounder Management Strategy Evaluation model development and outputs

Council Meeting With the ASMFC ISFMP Policy Board

Recreational Harvest Control Rule Framework/Addenda for Summer Flounder, Scup, Black Sea Bass, and Bluefish Final Action

Review public comments

Review SSC evaluation

Review recommendations from Advisory Panel, FMAT/PDT, and Council staff

Consider final action

Wednesday, June 8, 2022

Mackerel Rebuilding 2.0 Amendment Final Action

Review RH/S cap and 2023-25 Mackerel specifications

Recommend changes to 2023-25 Mackerel specifications if necessary

Consider final action

2023 Longfin Squid Specifications

Review recommendations for 2023 specifications

Recommend changes to 2023 specifications if necessary

2023-25 Chub Mackerel Specifications

Review recommendations from the SSC, Monitoring Committee, Advisory Panel, and Staff

Adopt specifications for 2023-25

Unmanaged Commercial Landings Report

Review annual report on landings of unmanaged species

NEFSC Shad and River Herring Update

Review spatial revenue analyses from NEFSC related to River Herring and Shad bycatch

Atlantic Large Whale Take Reduction Plan Phase II

Update on Phase II of the Atlantic Large Whale Take Reduction Plan and request for input

Atlantic Sturgeon Bycatch Draft Action Plan

Update and request for input

Research Set-Aside Program Redevelopment

Review Committee recommendations

Consider Council action

Thursday, June 9, 2022

Business Session

Committee Reports (SSC); Executive Director's Report; Organization Reports; and Liaison Reports

Other Business and General Public Comment

Although non-emergency issues not contained in this agenda may come before this group for discussion, in accordance with the Magnuson-Stevens Fishery Conservation and Management Act (Magnuson-Stevens Act), those issues may not be the subject of formal action during these meetings. Actions will be restricted to those issues specifically identified in this notice and any issues arising after publication of this notice that require emergency action under section 305(c).

Special Accommodations

These meetings are physically accessible to people with disabilities. Requests for sign language interpretation or other auxiliary aid should be directed to Shelley Spedden, (302) 526-5251, at least 5 days prior to the meeting date.

Authority: 16 U.S.C. 1801 et seq.

Dated: May 17, 2022.
Tracey L. Thompson,
Acting Deputy Director, Office of Sustainable Fisheries, National Marine Fisheries Service.

[FR Doc. 2022-10891 Filed 5-19-22; 8:45 am]

BILLING CODE 3510-22-P